DEPARTMENT OF TRANSPORTATION

National Highway Traffic Safety Administration

[Docket No. NHTSA-2013-0139; Notice 1]

Aston Martin Lagonda Limited, Receipt of Petition for Decision of Inconsequential Noncompliance

AGENCY: National Highway Traffic Safety Administration (NHTSA), Department of Transportation (DOT).

ACTION: Receipt of petition.

SUMMARY: Aston Martin Lagonda Limited (AML) has determined that certain MY 2009-2013 Aston Martin passenger cars do not fully comply with paragraph S4.4(c)(2), of Federal Motor Vehicle Safety Standard (FMVSS) No. 138, Tire Pressure Monitoring Systems. AML has filed an appropriate report dated November 4, 2013, pursuant to 49 CFR part 573, Defect and Noncompliance Responsibility and Reports.

DATES: The closing date for comments on the petition is August 5, 2015.

ADDRESSES: Interested persons are invited to submit written data, views, and arguments on this petition. Comments must refer to the docket and notice number cited at the beginning of this notice and submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: Logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION: I. AML's Petition: Pursuant to 49 U.S.C. 30118(d) and 30120(h) and the rule implementing those provisions at 49 CFR part 556, AML submitted a petition for an exemption from the notification and remedy requirements of 49 U.S.C. Chapter 301 on the basis that this noncompliance is inconsequential to motor vehicle safety.

This notice of receipt of AML's petition is published under 49 U.S.C. 30118 and 30120 and does not represent any agency decision or other exercise of judgment concerning the merits of the petition.

II. Vehicles Involved: Affected are approximately 3,282 of the following AML model passenger cars manufactured from September 2009 through October 2013:

Model | Registered AMLNA fleet | Dealer un-registered | Build range
DB9 Coupe | 211 | 41 | 10/09-10/13
DB9 Volante | 225 | 53 | 10/09-10/13
DBS Coupe | 153 | 1 | 10/09-08/12
DBS Volante | 147 | 1 | 10/09-08/12
Virage Coupe | 120 | 0 | 12/10-08/12
Virage Volante | 156 | 0 | 12/10-08/12
V8 Vantage Coupe | 385 | 54 | 10/09-10/13
V8 Vantage Roadster | 279 | 56 | 10/09-10/13
V8 Vantage S Coupe | 170 | 9 | 06/10-10/13
V8 Vantage S Roadster | 122 | 12 | 06/10-10/13
Rapide | 671 | 0 | 09/09-02/13
Rapide S | 74 | 65 | 01/13-10/13
Vanquish Coupe | 197 | 80 | 09/12-10/13
Total | 2,910 | 372 | N/A

III. Noncompliance: AML explains that during testing of the TPMS it was noted that the fitment of an incompatible wheel and tire unit was correctly detected and the malfunction indicator illuminated as required by FMVSS No. 138. However, when the vehicle ignition was deactivated and then reactivated after a five minute period, there was no immediate re-illumination of the malfunction indicator as required when the malfunction still exists. Although the malfunction indicator does not re-illuminate immediately after the vehicle ignition is reactivated, it does illuminate within 40 seconds after the vehicle accelerates above 23 mph.

Rule Text: Paragraph S4.4(c)(2) of FMVSS No. 138 requires in pertinent part:

S4.4 TPMS Malfunction.

(c) Combination low tire pressure/TPMS malfunction telltale. The vehicle meets the requirements of S4.4(a) when equipped with a combined Low Tire Pressure/TPMS malfunction telltale that:

(2) Flashes for a period of at least 60 seconds but no longer than 90 seconds upon detection of any condition specified in S4.4(a) after the ignition locking system is activated to the “On” (“Run”) position. After each period of prescribed flashing, the telltale must remain continuously illuminated as long as a malfunction exists and the ignition locking system is in the “On” (“Run”) position. This flashing and illumination sequence must be repeated each time the ignition locking system is placed in the “On” (“Run”) position until the situation causing the malfunction has been corrected. . . .

V. Summary of AML's Analyses: AML stated its belief that the subject noncompliance is inconsequential to motor vehicle safety for the following reasons:

(A) AML stated that although the malfunction indicator does not re-illuminate immediately after the vehicle is restarted, it generally will illuminate shortly thereafter, and in any event it will illuminate in no more than about 40 seconds, even in vehicles containing the noncompliance. Once a vehicle has started and is accelerating above 23 mph for a period of 15 seconds, the TPMS will seek to confirm the sensors fitted to the vehicle. If a sensor is not fitted, the TPMS will detect this within a further period of 15-20 seconds (up to a maximum of 25 seconds) and the TPMS malfunction indicator will illuminate correctly. Once the malfunction indicator is illuminated, it will remain illuminated throughout that ignition cycle, regardless of the vehicle's speed.

(B) AML also stated that if the TPMS fails to detect the wheel sensors, the TPMS monitor will display on the TPMS pressures screen “—” warning the driver that the status of the wheel sensor is unconfirmed. Once the vehicle starts moving, the system will then accurately determine if a sensor is present or not.

(C) AML says that the noncompliance is confined to one particular aspect of the functionality of the otherwise compliant TPMS malfunction indicator. All other aspects of the low-pressure monitoring system functionality are fully compliant with the requirements of FMVSS No. 138.

(D) AML is not aware of any customer complaints, field communications, incidents or injuries related to this condition.

AML has additionally informed NHTSA that all unsold vehicles in AML's custody and control will have the TPMS Electronic Control Unit reprogrammed prior to being sold.

In summation, AML believes that the described noncompliance of the subject vehicles is inconsequential to motor vehicle safety, and that its petition, to exempt AML from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that AML no longer controlled at the time it determined that the noncompliance existed. However, any decision on this petition does not relieve vehicle distributors and dealers of the prohibitions on the sale, offer for sale, or introduction or delivery for introduction into interstate commerce of the noncompliant vehicles under their control after AML notified them that the subject noncompliance existed.

Authority: 49 U.S.C. 30118, 30120: delegations of authority at 49 CFR 1.95 and 501.8.

Jeffrey Giuseppe,
Director, Office of Vehicle Safety Compliance.

[FR Doc. 2015-16439 Filed 7-2-15; 8:45 am]

BILLING CODE 4910-59-P